DEPARTMENT OF HEALTH AND HUMAN SERVICES

[Document Identifier OS-0955-New]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 10, 2021.

ADDRESSES: Submit your comments to Sherrette.Funn@hhs.gov or by calling (202) 795-7714.

FOR FURTHER INFORMATION CONTACT: When submitting comments or requesting information, please include the document identifier 0955-New-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Access, Exchange and Use of Social Determinants of Health Data in Clinical Notes.

Type of Collection: New.

OMB No.: 0955-NEW—Office of the National Coordinator for Health Information Technology.

Abstract: The Department of Health and Human Services, Office of the Secretary, Office of the National Coordinator for Health Information Technology, have the access, exchange, and use of electronic health information; which is essential for clinicians, and patients to better manage their health care needs and share information with other providers, and with caregivers. Many hospitals and physicians possess capabilities that enable patients to view and download their health information. Yet, additional steps are needed to make health information more accessible and useful to both clinicians and patients.

The 21st Century Cures Act (Cures Act) requires the Department of Health and Human Services (HHS) and ONC to improve the interoperability of health information. ONC's Cures Act final rule also identifies important data elements that should be made electronically available and exchanged through the use of health information technology (IT). The United States Core Data for Interoperability (USCDI) is a standardized set of health data classes and constituent data elements for nationwide, interoperable health information exchange. ONC will follow a predictable, transparent, and collaborative process to expand the USCDI. Data reflecting social determinants of health (SDOH)—the conditions in which people live, learn, work, and play—remains much more limited across healthcare. There is a growing recognition that by capturing and accessing SDOH data during the course of care, providers can more easily address non-clinical factors, such as food, housing, and transportation insecurities, which can have a profound impact on a person's overall health. Therefore, it is important to identify SDOH data elements for potential inclusion in the USCDI in the future.

Annualized Burden Hour Table
Form number and name | Respondents | Number of respondents | Number of responses per respondents | Average burden per response (x/60) | Total burden hours
1a: Prescreening Questionnaire | Patients and Caregivers | 750 | 1 | 5/60 | 62.5
1b: Prescreening Questionnaire | Clinicians and Healthcare Professionals | 750 | 1 | 5/60 | 62.5
2a: Asynchronous Focus Group Questions | Patients and Caregivers | 10 | 1 | 90/60 | 15
2b: Synchronous Focus Group Questions | Patients and Caregivers | 90 | 1 | 90/60 | 135
2c: Asynchronous Focus Group Questions | Clinicians and Healthcare Professionals | 100 | 1 | 90/60 | 150
Total For Prescreen Only Participants |  | 1,300 | 1 | 5/60 | 108
Total for Prescreen and Focus Group Participants |  | 200 | 1 | 95/60 | 317
Grand Total |  | 1,500 | 1 |  | 425

Dated: February 26, 2021.
Sherrette A. Funn,
Office of the Secretary, Paperwork Reduction Act Reports Clearance Officer.

[FR Doc. 2021-05041 Filed 3-10-21; 8:45 am]

BILLING CODE 4150-45-P